DEPARTMENT OF THE INTERIOR

Fish and Wildlife Service

Proposed Martin Branch Woodland Safe Harbor Agreement, Covington County, MS

AGENCY: Fish and Wildlife Service, Interior.

ACTION: Notice.

SUMMARY: This notice advises the public that Dr. John Lambert (Applicant) has applied to the Fish and Wildlife Service (Service) for an enhancement of survival permit pursuant to section 10(a)(1)(A) of the Endangered Species Act of 1973, as amended. The permit application includes a proposed Safe Harbor Agreement (Agreement) for the threatened gopher tortoise (Gopherus polyphemus) and the endangered red-cockaded woodpecker (Picoides borealis) for a period of 20 years. We (the Service) have made a preliminary determination that the proposed Agreement and permit application are eligible for categorical exclusions under the National Environmental Policy Act of 1969. We explain the basis for this determination in an Environmental Action Statement.

We announce the opening of a 30-day comment period and request comments from the public on the Applicants' enhancement of survival permit application, the accompanying proposed Agreement, and the Environmental Action Statement. All comments we receive, including names and addresses, will become part of the administrative record and may be released to the public. For further information and instructions on reviewing and commenting on this application, see the ADDRESSES section, below.

DATES: Written comments should be received on or before August 20, 2003.

ADDRESSES: You may obtain a copy of the information available by contacting the Service's Regional Safe Harbor Coordinator, U.S. Fish and Wildlife Service, 1875 Century Boulevard, Suite 200, Atlanta, Georgia 30345, or Field Supervisor, U.S. Fish and Wildlife Service, 6578 Dogwood View Parkway, Jackson, Mississippi 39213. Alternatively, you may set up an appointment to view these documents at either location during normal business hours. Written data or comments should be submitted to the Atlanta, Georgia, Regional Office. Requests for the documentation must be in writing to be processed, and comments must be written to be considered.

FOR FURTHER INFORMATION CONTACT: Mr. Rick Gooch, (telephone: 404/679-7124; facsimile: 404/679-7081), or Mr. Will McDearman (telephone: 601/965-4903 x 16; facsimile: 601/965-4340).

SUPPLEMENTARY INFORMATION:

Background

Under a Safe Harbor Agreement, participating property owners voluntarily undertake management activities on their property to enhance, restore, or maintain habitat benefitting species listed under the Endangered Species Act. Safe Harbor Agreements encourage private and other non-Federal property owners to implement conservation efforts for listed species by assuring property owners they will not be subjected to increased property-use restrictions if their efforts attract listed species to their property or increase the numbers or distribution of listed species already on their property. Application requirements and issuance criteria for enhancement of survival permits through Safe Harbor Agreements are found in 50 CFR 17.22 and 17.32.

We have worked with the Applicant to design and implement conservation measures to benefit the gopher tortoise and red-cockaded woodpecker. Portions of the Applicant's property currently are inhabited by the gopher tortoise. No red-cockaded woodpeckers currently reside on the property. Under the Agreement, the Applicant will restore and enhance habitat by the following actions: (1) Reduce tree density and canopy cover, increase sunlight on the forest floor, and maintain an open pine forest by thinning timber and prescribing frequent fire; (2) Plant and/or naturally regenerate longleaf pine; (3) Grow and maintain trees of sufficient size and quantity for suitable nesting and foraging habitat for one or more groups of red-cockaded woodpeckers.

Consistent with the Safe Harbor Policy and implementing regulations, we propose to issue an enhancement of survival permit to the Applicant. The permit will authorize the incidental take of the gopher tortoise and red-cockaded woodpecker as a result of lawful activities on enrolled lands, as long as baseline conditions are maintained and terms of the Agreement are implemented. Future activities by the Applicant could return these species and habitat to baseline conditions.

We provide this notice pursuant to section 10(c) of the Endangered Species Act and the implementing regulations for the National Environmental Policy Act (40 CFR 1506.6). We will evaluate the proposed Agreement, associated documents, and submitted public comments to determine whether the requirements of section 10(a) of the Endangered Species Act and National Environmental Policy Act regulations are satisfied. Following the end of the 30-day public comment period, we will fully consider all comments received and make our final decision. If we determine that the requirements are met, we will issue an enhancement of survival permit under section 10(a)(1)(A) of the Endangered Species Act to the Applicant in accordance with the terms of the Agreement and specific terms and conditions of the authorizing permit.

Dated: July 3, 2003.
J. Mitch King,
Acting Regional Director.

[FR Doc. 03-18415 Filed 7-18-03; 8:45 am]

BILLING CODE 4310-55-P